NATIONAL AERONAUTICS AND SPACE ADMINISTRATION

Meeting Notice

AGENCY: National Aeronautics and Space Administration.

ACTION: Notice of meeting.

SUMMARY: NASA will conduct an open forum meeting to solicit questions, views and opinions of interested persons or firms concerning NASA's procurement policies, practices, and initiatives. The purpose of the meeting is to have an open discussion between NASA's Associate Administrator for Procurement, industry, and the public.

Note: This is not a meeting about “how to do business with NASA” for new firms, nor will it focus on small businesses or specific contracting opportunities. Position papers are not being solicited. Another contractor open forum will be held at the Johnson Space Center in May 2004.

DATES: Thursday, March 18, 2004, from 9 a.m. to 11:30 a.m.

ADDRESSES: The meeting will be held at NASA, Marshall Space Flight Center, Morris Auditorium, Bldg. 4200, Huntsville, AL 35812.

FOR FURTHER INFORMATION CONTACT: Valerie Holmes, NASA Marshall Space Flight Center, Mail Code PS01, Huntsville, AL 35812, (256) 544-0314, email: Valerie.N.Holmes@nasa.gov.

SUPPLEMENTARY INFORMATION: Admittance: Doors will open at a half-hour prior to the presentation. Admittance will be on a first-come, first-served basis. Auditorium capacity is limited to approximately 90 persons. To ensure adequate seating, a maximum of two representatives per firm is requested. No reservations will be accepted.

Format: There will be a presentation by the Associate Administrator for Procurement, followed by a question and answer period. Procurement issues will be discussed, including current acquisition activities at NASA. Questions for the open forum should be presented at the meeting and should not be submitted in advance. Position papers are not being solicited.

Tom Luedtke,
Assistant Administrator for Procurement.

[FR Doc. 04-3991 Filed 2-23-04; 8:45 am]

BILLING CODE 7510-01-P